DEPARTMENT OF VETERANS AFFAIRS

Enhanced-Use Lease of VA Property, Chicago (Lakeside), IL

AGENCY: Department of Veterans Affairs.

ACTION: Notice of intent to dispose of property to an enhanced-use lessee.

SUMMARY: The Secretary of the Department of Veterans Affairs (VA) intends to dispose of approximately 3.8 acres of VA property (known as “Lakeside”) in Chicago, Illinois. The Department, in accordance with 38 U.S.C. 8164, proposes to transfer all right, title, and interest of the United States in the property to Northwestern Memorial Hospital, which is currently leasing the property from VA for 75 years. VA would use the disposal proceeds to improve and expand health care services and facilities for veterans. Under other terms of the proposed disposal, VA could continue using a portion of the Lakeside property to provide outpatient care services to veterans until January 18, 2008.

FOR FURTHER INFORMATION CONTACT: Brian A. McDaniel, Office of Asset Enterprise Management (004B), Department of Veterans Affairs, 810 Vermont Avenue, NW., Washington, DC 20420, (202) 273-9492.

SUPPLEMENTARY INFORMATION: 38 U.S.C. 8164 specifically provides that the Secretary may dispose of enhanced-use leased property if he determines that the leased property is no longer needed by the Department, and that disposal under that section, rather than under 38 U.S.C. 8122, is in the best interests of the Department.

Approved: April 27, 2005.
R. James Nicholson,
Secretary of Veterans Affairs.

[FR Doc. E5-2138 Filed 5-2-05; 8:45 am]

BILLING CODE 8320-01-P